DEPARTMENT OF ENERGY

Federal Energy Regulatory Commission

[Project No. 2114-003 Washington]

Public Utility District No. 2 of Grant County; Notice of Availability of Draft Environmental Assessment and Solicitation of Comments

August 14, 2002.

In accordance with the National Environmental Policy Act of 1969 and the Federal Energy Regulatory Commission's regulations, 18 CFR part 380 (Order No. 486, 52 FR 47910), the Office of Energy Projects (OEP) has prepared a draft Environmental Assessment (DEA) of an Offer of Settlement (OS) and Memorandum of Agreement (MOA) that propose, as part of a license amendment, spill measures for enhancing the downstream passage survival and passage efficiency of outmigrating anadromous salmonid juveniles at the Priest Rapids Project in Grant County, Washington. Part of the project occupies 3,051.92 acres of Federal lands administered by the Bureau of Land Management, Department of Energy, Department of Army, Bureau of Reclamation, and the U.S. Fish and Wildlife Service.

The DEA contains the staff's analysis of the potential environmental impacts of the proposed amendment and concludes that approval of Grant's proposed amendment or a staff alternative would not constitute a major federal action significantly affecting the quality of the human environment.

A copy of the DEA is available for review at the Commission in the Public Reference Room or may be viewed on the Commission's website at http://www.ferc.gov using the “FERRIS” link. Enter the docket number excluding the last three digits in the docket number field to access the document. For assistance, call (202) 502-8222 or for TTY, (202) 208-1659.

Any comments should be filed within 30 days from the date of this notice and should be addressed to Magalie R. Salas, Secretary, Federal Energy Regulatory Commission, 888 First Street, NE., Washington, DC 20426. Please affix Project No. 2114-003 to all comments. Comments may be filed electronically via the Internet in lieu of paper. The Commission strongly encourages electronic filings. See 18 CFR 385.2001(a)(1)(iii) and the instructions on the Commission's Web site (http://www.ferc.gov) under the “e-Filing” link. The Commission strongly encourages electronic filings.

For further information, contact Bob Easton at (202) 502-6045.

Linwood A. Watson, Jr.,
Deputy Secretary.

[FR Doc. 02-21150 Filed 8-19-02; 8:45 am]

BILLING CODE 6717-01-P